DEPARTMENT OF THE INTERIOR

National Park Service

[NPS-USPP-22368; PPWOUSPPS1, PPMPRPP02.Y00000 (177)]

Information Collection Request Sent to the Office of Management and Budget (OMB) for Approval; United States Park Police Pre-Employment Suitability Determination Process

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on March 31, 2017. We may not conduct or sponsor and a person is not required to respond to a collection of information unless it displays a currently valid OMB Control Number. However, under OMB regulations, we may continue to conduct or sponsor this information collection while it is pending at OMB.

DATES: You must submit comments on or before December 12, 2016.

ADDRESSES: Send your comments and suggestions on this information collection to the Desk Officer for the Department of the Interior at OMB-OIRA at (202) 395-5806 (fax) or OIRA_Submission@omb.eop.gov (email). Please provide a copy of your comments to the Information Collection Clearance Officer, National Park Service, 12201 Sunrise Valley Dr., (MS-242), Reston, VA 20192 (mail); or madonna_baucum@nps.gov (email). Please reference OMB Control Number 1024-0245 in the subject line of your comments. You may review the ICR online at http://www.reginfo.gov. Follow the instructions to review Department of the Interior collections under review by OMB.

FOR FURTHER INFORMATION CONTACT: To request additional information about this IC, contact Pamela Blyth, United States Park Police, 1100 Ohio Drive SW., Washington, DC 20242 (mail); or at pamela_blyth@nps.gov (email).

SUPPLEMENTARY INFORMATION:

I. Abstract

The United States Park Police (USPP) is a unit of the National Park Service, Department of the Interior, with jurisdiction in all National Park Service areas and certain other Federal and State lands. The USPP are highly trained, professional police officers who prevent and detect criminal activity; conduct investigations; apprehend individuals suspected of committing offenses against Federal, State, and local laws; provide protection to the President of the United States and visiting dignitaries; and provide protective services to some of the most recognizable monuments and memorials in the world. Applicants for USPP officer positions must complete and pass a competitive written examination, an oral interview, a medical examination and psychological evaluation, and a battery of physical fitness and agility tests. As part of this application and screening process, the USPP uses the following forms:

Form 10-2201, “Personal Qualifications Statement” provides information on the personal history of the candidate. We have not made any substantive changes to the form, only minor edits to clarify instructions or improve readability and formatting changes to meet new DOI and NPS forms standards. Investigators verify the information provided and use it to determine an applicant's suitability for a USPP officer position.

The following forms have been in use without approval due to the USPP and are now being submitted with this revision for clearance by OMB.

Form 10-2201A, “Information Release Form”, authorizes the release of all personal and confidential records, to include medical records concerning physical and mental health, to the USPP necessary as part of the Pre-employment Suitability Determination Phase to determine the suitability of the candidate for employment with the USPP.

Form 10-2201B, “Release to Obtain a Credit Report”, authorizes the release of information from consumer reporting agencies to the USPP necessary as part of the Pre-employment Suitability Determination Phase to determine the suitability of the candidate for employment with the USPP.

Form 10-2201C, “Lautenberg Certification”, requires information and certification by the applicant regarding a conviction of a misdemeanor crime of domestic violence. This certification is required to determine the suitability of the candidate to move forward in the Pre-employment Suitability Determination Phase of the USPP candidate selection process.

Form 10-2201D, “Physical Efficiency Battery “Waiver” ”, requires the candidate to provide the following information regarding medical conditions which may impede their ability to meet the minimum efficiency score on the Physical Efficiency Battery (PEB), a requirement of the Pre-employment Suitability Determination Phase of the USPP candidate selection process.

Form 10-2201E, “Physician Consent Form”, is required to document the medical clearance by a physician for the candidate to participate in the PEB as part of the Pre-employment Suitability Determination Phase of the USPP candidate selection process.

Form 10-2201F, “Applicant Documentation Form”, is completed by the applicant when declining or deferring employment with the USPP.

II. Data

OMB Control Number: 1024-0245.

Title: United States Park Police Pre-Employment Suitability Determination Process.

Service Form Number(s):

• 10-2201, “Personal History Statement”

• 10-2201A, “Information Release Form”

• 10-2201B, “Release to Obtain a Credit Report”

• 10-2201C, “Lautenberg Certification Form”

• 10-2201D, “Physical Efficiency Battery “Waiver” ”

• 10-2201E, “Physician Consent Form”

• 10-2201F, “Applicant Documentation Form”

Type of Request: Revision of a currently approved collection to incorporate additional forms in use without OMB approval.

Description of Respondents: Candidates for employment as a United States Park Police officer.

Respondent's Obligation: Required to obtain or retain a benefit.

Frequency of Collection: On occasion.

Activity | Estimated annual number of responses | Estimated completion time per response | Estimated total annual burden hours
Form 10-2201, “Personal Qualification Statement” (Individual) | 2,500 | 7 Hours | 17,500
Form 10-2201A, “Information Release Form” (Individual) | 2,500 | 15 Min | 625
Form 10-2201B, “Release to Obtain a Credit Report” (Individual) | 2,500 | 10 Min | 417
Form 10-2201C, “Lautenberg Certification” (Individual) | 2,500 | 5 Min | 208
Form 10-2201D, “Physical Efficiency Battery “Waiver” ” (Individual) | 2,500 | 10 Min | 417
Form 10-2201E, “Physician Consent Form” (Private Sector) | 2,500 | 15 Min | 625
Form 10-2201F, “Applicant Documentation Form” (Individual) | 15 | 5 Min | 1
Totals | 15,015 |  | 19,793

Estimated Annual Nonhour Burden Cost: $238,752 primarily for costs (1) associated with printing and notarizing the application and (2) incurred to provide supporting documentation.

III. Comments

On May 29, 2015, we published in the Federal Register (80 FR 30721) a notice of our intent to request that OMB renew approval for this information collection. In that notice, we solicited comments for 60 days, ending on July 28, 2015. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: November 4, 2016.
Madonna L. Baucum,
Information Collection Clearance Officer, National Park Service.

[FR Doc. 2016-27129 Filed 11-9-16; 8:45 am]

BILLING CODE 4310-EH-P